DEPARTMENT OF ENERGY

Federal Energy Regulatory Commission

Combined Notice of Filings #1

February 23, 2009.

Take notice that the Commission received the following electric rate filings:

Docket Numbers: ER07-521-008.

Applicants: New York Independent System Operator, Inc.

Description: New York Independent System Operator, Inc. Submits Compliance Filing.

Filed Date: 02/18/2009.

Accession Number: 20090219-0291.

Comment Date: 5 p.m. Eastern Time on Wednesday, March 11, 2009.

Docket Numbers: ER07-1332-003.

Applicants: Smoky Hills Wind Farm, LLC.

Description: Supplemental Information to April 2008 Change in Status Filing and Request for Shortened Notice Period of Smoky Hills Wind Farm, LLC.

Filed Date: 02/20/2009.

Accession Number: 20090220-5146.

Comment Date: 5 p.m. Eastern Time on Monday, March 02, 2009.

Docket Numbers: ER08-1377-001.

Applicants: Xcel Energy Services Inc.

Description: Northern States Power Co—MN & Northern States Power Co—WI Submits Revised Versions of Certain Service Agreements to Rate Schedule Transmission Service Tm-1 Relating to Implementation of the Midwest ISO Ancillary Services Market etc.

Filed Date: 02/19/2009.

Accession Number: 20090220-0179.

Comment Date: 5 p.m. Eastern Time on Thursday, March 12, 2009.

Docket Numbers: ER08-1574-002.

Applicants: ORNI 18, LLC.

Description: ORNI 18, LLC submits Notice of Non-Material Change in Status.

Filed Date: 02/19/2009.

Accession Number: 20090219-5044.

Comment Date: 5 p.m. Eastern Time on Thursday, March 12, 2009.

Docket Numbers: ER08-1591-001.

Applicants: California Independent System Operator Corporation.

Description: California Independent System Operator Corporation Submits Instant Filing in Compliance with FERC's 12/30/08 Letter.

Filed Date: 01/29/2009.

Accession Number: 20090202-0542.

Comment Date: 5 p.m. Eastern Time on Monday, March 02, 2009.

Docket Numbers: ER09-169-001.

Applicants: California Independent System Operator Corporation.

Description: California Independent System Operator Corp Submits Substitute Second Revised Sheet 20.00 et al. to FERC Electric Tariff, Third Replacement Volume 1 in Compliance with the Commission's 12/30/08 Order.

Filed Date: 01/28/2009.

Accession Number: 20090129-0224.

Comment Date: 5 p.m. Eastern Time on Monday, March 02, 2009.

Docket Numbers: ER09-507-001.

Applicants: PSEG Power Connecticut LLC.

Description: PSEG Power Connecticut LLC Submits Revised Reliability Must-run Agreements with ISO New England Inc for Power Connecticut's et al.

Filed Date: 02/18/2009.

Accession Number: 20090219-0286.

Comment Date: 5 p.m. Eastern Time on Wednesday, March 11, 2009.

Docket Numbers: ER09-552-001.

Applicants: Goldfinch Capital Management, LP.

Description: Goldfinch Capital Management, LP Submits Petition for Acceptance of Initial Tariff and Waivers.

Filed Date: 02/19/2009.

Accession Number: 20090220-0297.

Comment Date: 5 p.m. Eastern Time on Thursday, March 12, 2009.

Docket Numbers: ER09-564-001.

Applicants: PJM Interconnection, LLC.

Description: PJM Interconnection, LLC submits Sub. Original Service Agreement 2085 that Supersedes Original Service Agreement 2085, Substituting the Name DPL Energy, LLC for DP&L in the Agreement.

Filed Date: 02/18/2009.

Accession Number: 20090219-0290.

Comment Date: 5 p.m. Eastern Time on Wednesday, March 11, 2009.

Docket Numbers: ER09-594-001.

Applicants: Coaltrain Energy LP.

Description: Coaltrain Energy LP Submits Substitute Original Sheets 1 and 2 and Revised Attachment A.

Filed Date: 02/19/2009.

Accession Number: 20090220-0296.

Comment Date: 5 p.m. Eastern Time on Thursday, March 12, 2009.

Docket Numbers: ER09-595-001.

Applicants: Gotham Energy Marketing, LP.

Description: Gotham Energy Marketing LP Submits Substitute Tariff Sheets and Revised Attachment A.

Filed Date: 02/19/2009.

Accession Number: 20090220-0294.

Comment Date: 5 p.m. Eastern Time on Thursday, March 12, 2009.

Docket Numbers: ER09-596-001.

Applicants: Silverado Energy LP.

Description: Silverado Energy LP Submits Substitute Original Sheets 1 and 2 and Revised Attachment A.

Filed Date: 02/19/2009.

Accession Number: 20090220-0292.

Comment Date: 5 p.m. Eastern Time on Thursday, March 12, 2009.

Docket Numbers: ER09-597-001.

Applicants: Rockpile Energy LP.

Description: Rockpile Energy LP Submits Substitute Tariff Sheets and Revised Attachment A.

Filed Date: 02/19/2009.

Accession Number: 20090220-0293.

Comment Date: 5 p.m. Eastern Time on Thursday, March 12, 2009.

Docket Numbers: ER09-598-001.

Applicants: Big Bog Energy, LP.

Description: Big Bog Energy LP Submits Substitute Original Sheets 1 and 2 and Revised Attachment A.

Filed Date: 02/19/2009.

Accession Number: 20090220-0295.

Comment Date: 5 p.m. Eastern Time on Thursday, March 12, 2009.

Docket Numbers: ER09-626-001.

Applicants: Participating Transmission Owners Administrative Committee.

Description: SSP Administrative Committee Request Waiver of Certain Business Practice Standards of the NAESB, etc.

Filed Date: 02/18/2009.

Accession Number: 20090219-0287.

Comment Date: 5 p.m. Eastern Time on Wednesday, March 11, 2009.

Docket Numbers: ER09-712-000.

Applicants: High Lonesome Mesa, LLC.

Description: Petition of High Lonesome Mesa, LLC for Order Accepting Market-Based Rate Tariff for Filing and Granting Waivers and Blanket Approvals.

Filed Date: 02/18/2009.

Accession Number: 20090219-0292.

Comment Date: 5 p.m. Eastern Time on Wednesday, March 11, 2009.

Docket Numbers: ER09-727-000.

Applicants: Central Illinois Light Company.

Description: Central Illinois Light Company Submits Boundary Line Agreement between AmerenCILCO and the City of Springfield, IL et al. requesting an effective date of 4/19/09 for the Boundary Line Agreement.

Filed Date: 02/18/2009.

Accession Number: 20090219-0288.

Comment Date: 5 p.m. Eastern Time on Wednesday, March 11, 2009.

Docket Numbers: ER09-728-000.

Applicants: Twin Cities Energy, LLC.

Description: Twin Cities Energy, LLC Submits Notice of Succession to the Tariff of Alberta Power, LLC.

Filed Date: 02/18/2009.

Accession Number: 20090219-0289.

Comment Date: 5 p.m. Eastern Time on Wednesday, March 11, 2009.

Docket Numbers: ER09-729-000.

Applicants: Avista Corporation.

Description: Avista Corp Submits Revisions to its Electric Tariff Volume 11 for the Sale, Assignments, or Transfer of Transmission Rights, etc.

Filed Date: 02/19/2009.

Accession Number: 20090220-0291.

Comment Date: 5 p.m. Eastern Time on Thursday, March 12, 2009.

Docket Numbers: ER09-730-000.

Applicants: PJM Interconnection LLC.

Description: PJM Interconnection Submits Revised Tariff Sheets of their Open Access Transmission Tariff.

Filed Date: 02/19/2009.

Accession Number: 20090220-0290.

Comment Date: 5 p.m. Eastern Time on Thursday, March 12, 2009.

Docket Numbers: ER09-731-000.

Applicants: Illinois Power Company.

Description: Ameren Services Company Submits Construction Agreement between AmerenIP and the Exelon Generation Company, LLC.

Filed Date: 02/19/2009.

Accession Number: 20090220-0298.

Comment Date: 5 p.m. Eastern Time on Thursday, March 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-4383 Filed 3-2-09; 8:45 am]

BILLING CODE 6717-01-P